DEPARTMENT OF TRANSPORTATION

Federal Railroad Administration

[Docket No. FRA-2025-0060]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before November 12, 2025.

ADDRESSES: Written comments and recommendations for the proposed ICR should be submitted on www.regulations.gov to Docket No. FRA-2025-0060. All comments received will be posted without change to the docket, including any personal information provided. Please refer to the assigned OMB control number (2130-0017) in any correspondence submitted. FRA will summarize comments received in response to this notice in a subsequent notice, made available to the public, and include them in its information collection submission to OMB for approval.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: U.S. DOT Crossing Inventory.

OMB Control Number: 2130-0017.

Abstract: On January 6, 2015, FRA published a final rule that requires railroads that operate one or more trains through highway-rail or pathway crossings to submit information to the U.S. DOT National Highway-Rail Crossing Inventory (“Crossing Inventory”) about the crossings through which they operate.¹ This final rule, mandated by sec. 204 of the Rail Safety Improvement Act of 2008, requires railroads to submit information about previously unreported and new highway-rail and pathway crossings to the Crossing Inventory and to periodically update existing crossing data.

¹ This final rule was subsequently amended on June 10, 2016, in response to a petition for reconsideration submitted by the Association of American Railroads. See 81 FR 37521.

In this 60-day notice, after a thorough review, FRA has made multiple adjustments to its estimates that increased the previously approved burden hours from 8,663 to 9,857 hours and decreased the number of responses from 421,758 to 225,145. This burden increase is the result of changes described in the sections summarized below.

Under 49 CFR 234.403, which describes the submission of Crossing Inventory data generally, FRA adjusted the burden estimates to reflect more accurately the estimated number of hours and average time per response associated with submissions for the next three-year reporting period, resulting in an increase of 1,490 hours.

Under § 234.405, which describes the process to submit initial data to the Crossing Inventory for previously unreported crossings, FRA decreased the estimated burden by 57 hours. These regulations have been in effect since June 2016 and railroads have been submitting crossing data to the Crossing Inventory for previously unreported crossings since that time. Based on crossing data submitted to the Crossing Inventory during the previous three-year reporting period, FRA does not anticipate any initial submission of crossing data for previously unreported crossings.

Under § 234.411, which describes the type of changes requiring submission of updated information to the Crossing Inventory, FRA adjusted the burden estimates to reflect more accurately the number of railroads that have reported a crossing sale or closure over the past three years, and the average response time, decreasing the burden estimate by 81 hours.

Finally, under § 234.413, which describes railroad recordkeeping requirements, FRA has made multiple adjustments. FRA decreased the burden hours by 158 hours to reflect more accurately the number of records that must be kept and maintained. This reduction is the result of a significant decrease in the number of annual responses. FRA also increased the burden hours by 54 hours to reflect more accurately the burden associated with maintaining lists of locations where copies of records required by subpart F of part 234 may be accessed and copied.

Type of Request: Extension without change (with changes in estimates) of a current information collection.

Affected Public: Businesses (railroads), States, and the District of Columbia (DC).

Form(s): FRA F 6180.71.

Respondent Universe: 646 railroads, 50 States, and DC.

Frequency of Submission: On occasion.

Reporting Burden
CFR section part 234, subpart F | Respondent universe | Total annual responses | Average time per response | Total annual burden hours | Wage rate ² | Total annual dollar cost equivalent
|  | (A) | (B) | (C) = A * B |  | (D) = C * wage rates
234.403 Submission of data to the Crossing Inventory, generally:
—(a) and (c) Highway-rail and pathway crossing data submitted on the inventory form | 50 States + DC & 646 railroads | 500 forms | 30 minutes | 250 | $89.13 | $22,282.50
—Grade Crossing Inventory System update of designated data submitted by railroads & States/DC | 50 States + DC & 646 railroads | 30,000 updates | 5 minutes | 2,500 | 89.13 | 222,825.00
—Excel lists of submitted data—(bulk uploads) | 50 States + DC & 646 railroads | 1,000 lists | 5 minutes | 83.33 | 89.13 | 7,427.50
—Changes/corrections to Crossing Inventory data submitted via API computer program | 50 States + DC & 646 railroads | 80,000 records | 5 minutes | 6,666.67 | 89.13 | 594,200.00
—(b) Written requests by States/DC & railroads for FRA Crossing Inventory Guide | FRA anticipates zero submissions over the next three-year period.
—(d) Reporting Crossing Inventory data by State agencies/DC on behalf of railroads: Written notices to FRA | FRA anticipates zero submissions over the next three-year period.
—(e)(1) Consolidated reporting by parent corporations on behalf of their subsidiary railroads: Written notice to FRA | 646 railroads | 15 Notices | 1 hour | 15 | 89.13 | 1,336.95
—(e)(2) Immediate notification to FRA by parent corporations of any changes to lists of subsidiary railroads | 646 railroads | 2 notices | 1 hour | 2 | 89.13 | 178.26
234.405 Submission of initial data to the Crossing Inventory for previously unreported crossings:
—(a)(1) Assigning Crossing Inventory number to each previously unreported highway-rail and pathway crossing | FRA anticipates zero submissions over the next three-year period.
—(a)(2) Primary operating railroad providing assigned Crossing Inventory number to other railroads operating through crossing | FRA anticipates zero submissions over the next three-year period.
—(c) Duty of all operating railroads: Notification to FRA of previously unreported crossing through which it operates | FRA anticipates zero submissions over the next three-year period.
—(d) Incomplete submission by State agency/DC: Written certification by primary operating railroad that State/DC has not provided requested crossing information. Provide copies of written request to each operating railroad | FRA anticipates zero submissions over the next three-year period.
234.407 Submission of initial data to the Crossing Inventory for new crossings:
—(a) and (b) Submission of initial data to the Crossing Inventory for new crossings: Providing assigned Crossing Inventory numbers for new highway-rail and pathway crossings through which they operate by primary operating railroads to each railroad that operates one or more trains through the crossing | 646 railroads | 54 assigned inventory numbers | 5 minutes | 4.50 | 89.13 | 401.09
234.409 Submission of periodic updates to the Crossing Inventory:
—(a) Submission of periodic updates to the Crossing Inventory by primary operating railroad | The estimated paperwork burden for this requirement is included under § 234.403. Consequently, there is no additional burden associated with this requirement.
234.411 Changes requiring submission of updated information to the Crossing Inventory:
—(a) Notification/report by railroad to primary operating railroad of sale of all or part of a highway-rail or pathway crossing on or after June 10, 2016 | 646 railroads | 228 notices/reports | 5 minutes | 19 | 89.13 | 1,693.47
—(b) Crossing closure: Submission of Crossing Inventory form by primary operating railroad that closes highway-rail and pathway crossing | The estimated paperwork burden for this requirement is included under § 234.403. Consequently, there is no additional burden associated with this requirement.
—(c) Primary operating railroad submission of Crossing Inventory form for change in crossing characteristics | 646 railroads | 1,200 forms | 5 minutes | 100 | 89.13 | 8,913.00
234.413 Recordkeeping:
—(a) and (b) Railroad duplicate copy of each inventory form submitted in hard copy to the Crossing Inventory | 646 railroads | 500 duplicate copies | 1 minute | 8.33 | 89.13 | 742.75
—Copy of electronic confirmation received from FRA after electronic submission of crossing data to Crossing Inventory | 646 railroads | 111,000 copies | 5 seconds | 154.17 | 89.13 | 13,740.88
—(c) List of locations where a copy of any record required by this subpart may be accessed and copied | 646 railroads | 646 lists | 5 minutes | 53.83 | 89.13 | 4,798.17
Total | 50 States + DC & 646 railroads | 225,145 responses | N/A | 9,857 |  | 878,539.56

Total Estimated Annual Responses: 225,145.

² The dollar equivalent cost is derived from the 2023 Surface Transportation Board Full Year Wage A&B data series using the employee group 200 (Professional Administrative Staff) hourly wage rate of $50.93. The total burden wage rate (straight time plus 75%) used in the table is $89.13 ($50.93 × 1.75 = $89.13).

Total Estimated Annual Burden: 9,857 hours.

Total Estimated Annual Burden Hour Dollar Cost Equivalent: $878,539.56.

FRA informs all interested parties that it may not conduct or sponsor, and a respondent is not required to respond to, a collection of information that does not display a currently valid OMB control number.

Authority: 44 U.S.C. 3501-3520.

Christopher S. Van Nostrand,
Deputy Chief Counsel.

[FR Doc. 2025-17587 Filed 9-11-25; 8:45 am]

BILLING CODE 4910-06-P